DEPARTMENT OF JUSTICE

Notice of Lodging of Consent Decree Pursuant to the Clean Air Act and the Marine Protection, Research and Sanctuaries Act

In accordance with Departmental policy, 28 CFR 50.7, notice is hereby given that a proposed consent decree in United States v. Chevron USA, Inc., Civil No. 99-12216-DT was lodged on August 23, 2000, with the United States District Court for Central District of California.

The consent decree settles claims for civil penalties and injunctive relief against Chevron for: (1) Civil penalties and injunctive relief pursuant to Section 113(b) of the Clean Air Act, 42 U.S.C. 7413(b), based on Chevron's violations of Rule 1142 of the South Coast Air Quality Management District Rules as incorporated into California's State Implementation Plan (“SIP”), and (2) injunctive relief pursuant to the Marine Protection, Research, and Sanctuaries Act of 1972, 33 U.S.C. 1401-1445, based on Chevron's unpermitted transportation of material for disposition into the ocean. Pursuant to the consent decree Chevron will pay a civil penalty of $6 million and perform two supplemental environmental projects valued at $1 million.

The Department of Justice will receive, for a period of thirty (30) days from the date of this publication, comments relating to the proposed consent decree. Comments should be addressed to the Assistant Attorney General for the Environment and Natural Resources Division, Department of Justice, Washington, DC 20530, and should refer to United States v. Chevron USA, Inc., DOJ Ref. #90-5-2-1-06559.

The proposed consent decree may be examined at the office of the United States Attorney, for the Central District of California, 300 North Los Angeles Street, Room 7516, Los Angeles, California 90012; and the Region IX Office of the Environmental Protection Agency, 75 Hawthorne Street, San Francisco, CA. A copy of the proposed consent decree may be obtained by mail from the Consent Decree Library, P.O. Box 7611, Washington, DC 20044-7611. In requesting a copy please refer to the referenced case and enclose a check in the amount of $8.25 (25 cents per page reproduction costs), payable to the Consent Decree Library.

Walker B. Smith,
Deputy Chief, Environmental Enforcement Section, Environment and Natural Resources Division.

[FR Doc. 00-22670 Filed 9-1-00; 8:45 am]

BILLING CODE 4410-15-M